FEDERAL COMMUNICATIONS COMMISSION

Sunshine Act Meeting; Open Commission Meeting; Thursday, September 26, 2013

September 19, 2013.

The Federal Communications Commission will hold an Open Meeting on the subjects listed below on Thursday, September 26, 2013. The meeting is scheduled to commence at 10:30 a.m. in Room TW-C305, at 445 12th Street, SW., Washington, DC

Item No. | Bureau | Subject
1 | WIRELESS TELE-COMMUNICATIONS | TITLE: Acceleration of Broadband Deployment by Improving Wireless Facilities Siting Policies; Acceleration of Broadband Deployment: expanding the Reach and Reducing the cost of Broadband Deployment by Improving Policies Regarding Public Rights of Way and Wireless Facilities Siting (WC Docket No. 11-59); Amendment of Parts 1 and 17 of the Commission's Rules Regarding Public Notice Procedures for Processing Antenna Structure Registration Applications for Certain Temporary Towers (RM-11688); and 2012 Biennial Review of Telecommunications Regulations (WT Docket No. 13-32) SUMMARY: The Commission will consider a Notice of Proposed Rulemaking to accelerate deployment of wireless infrastructure while at the same time appropriately protecting the Nation's environmental resources.
2 | MEDIA | TITLE: Amendment of Section 73.3555(e) of the Commission's Rules, National Television Multiple Ownership Rule SUMMARY: The Commission will consider a Notice of Proposed Rulemaking regarding the UHF discount to its national television multiple ownership rule.
3 | MEDIA | TITLE: BLOOMBERG L.P. Complainant v. COMCAST CABLE COMMUNICATIONS LLC Defendant (MB Docket No. 11-104) SUMMARY: The Commission will consider a Memorandum Opinion and Order to resolve a complaint by Bloomberg L.P. that Comcast Cable communications, LLC violated the news neighborhooding condition of the Comcast/NBCU transaction.
4 | PUBLIC SAFTEY AND HOMELAND SECURITY | TITLE: Improving the Resiliency of Mobile Wireless Communications Networks SUMMARY: The Commission will consider a Notice of Proposed Rulemaking that seeks comment on proposals to improve consumer choice and facilitate improvements to the resiliency of mobile wireless networks during emergencies.
5 | MEDIA | TITLE: Presentation on the Status of the Low Power FM Open Filing Window SUMMARY: The Media Bureau will present the latest update on progress towards the upcoming October 15-October 29, 2013 open filing window for applicants seeking to operate new Low Power FM radio stations.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary, Office of the Secretary, Office of Managing Director.

[FR Doc. 2013-23932 Filed 9-26-13; 4:15 pm]

BILLING CODE 6712-01-P